DEPARTMENT OF ENERGY

Federal Energy Regulatory Commission

[Docket No. RP00-325-000]

Colorado Interstate Gas Company; Notice of Technical Conference

October 12, 2000.

On June 15, 2000, Colorado Interstate Gas Company (CIG) filed in compliance with Order No. 637. A technical conference to discuss the various issues raised by CIG's filing was held on October 3, 2000.

Take notice that a second technical conference to discuss the issue of segmentation on CIG's system, and remaining issues raised by CIG's filing, will be held Thursday, October 26, 2000, at 9 am in a room to be designated at the offices of the Federal Energy Regulatory Commission, 888 First Street, NE., Washington, DC 20426.

All interested persons and Staff are permitted to attend.

David P. Boergers,
Secretary.

[FR Doc. 00-26681 Filed 10-17-00; 8:45 am]

BILLING CODE 6717-01-M